DEPARTMENT OF THE INTERIOR

Bureau of Indian Affairs

Request for Comments on Land Acquisitions Information Collection

AGENCY: Bureau of Indian Affairs, Interior.

ACTION: Notice of information collection request renewal.

SUMMARY: In compliance with the Paperwork Reduction Act of 1995 (44 U.S.C. 3501 et seq.), the Bureau of Indian Affairs (BIA) invites comments on the information collection request which will be renewed. The collection is: 25 CFR 151 Land Acquisitions, 1076-0100.

DATES: Comments must be received on or before October 27, 2000 to be assured of consideration.

ADDRESSES: Submit comments to Terrance L. Virden, Bureau of Indian Affairs, Director, Office of Trust Responsibilities, MS-4513/MIB/Code 200, 1849 C Street, NW., Washington, DC 20240, telephone (202) 208-5831.

FOR FURTHER INFORMATION CONTACT: Interested persons may obtain copies of the information collection requests without charge by contacting Terrance L. Virden at (202) 208-5831, or by facsimile at (202) 219-1255.

SUPPLEMENTARY INFORMATION: Interested persons may submit written comments regarding this information collection request to the location identified in the ADDRESSES section of this document. Our practice is to make comments, including names and home addresses of respondents, available for public review during regular business hours. Individual respondents may request confidentiality. If you wish to request that we consider withholding your name, street address, and other contact information (such as Internet address, FAX, or phone number) from public review or from disclosure under the Freedom of Information Act, you must state this prominently at the beginning of your comment. We will honor your request to the extent allowable by law. However, we will not consider anonymous comments. We will make all submissions from organizations or businesses, and from individuals identifying themselves as representatives or officials of organizations or businesses, available for public inspection in their entirety.

The Paperwork Reduction Act of 1995 provides an opportunity for interested parties to comment on proposed information collection requests. This collection covers 25 CFR 151 as presently approved. It is not tied to the proposed rulemaking. We must keep this active to allow lands into trust requests to be honored. The Bureau of Indian Affairs, Division of Real Estate Services, is proceeding with this public comment period as the first step in obtaining a normal information collection clearance from OMB. The request contains (1) Type of review, (2) title, (3) summary of the collection, (4) respondents, (5) frequency of collection, (6) reporting and record keeping requirements, (7) reason for response.

Title: 25 CFR—Land Acquisitions.

Type of review: Extension of a currently approved collection.

Summary: The Secretary of the Interior has statutory authority to acquire lands in trust status for individual Indians and federally recognized Indian tribes. The Secretary requests information in order to identify the party(ies) involved and a description of the land in question. Respondents are Native American tribes or individuals who request acquisition of real property into trust status. The Secretary also requests additional information necessary to satisfy those pertinent factors listed in 25 CFR 151.10 or 151.11. The information is used to determine whether or not the Secretary will approve an applicant's request. No specific form is used, but respondents supply information and data, in accordance with 25 CFR 151, so that the Secretary may make an evaluation and determination in accordance with established Federal factors, rules and policies.

Frequency of Collection: One Time.

Description of Respondents: Native American Tribes and Individuals desiring acquisition of lands in trust status.

Total Respondents: 9,200.

Total Annual Responses: 9,200.

Total Annual Burden Hours: 36,800 hours.

Reason for response: Required to obtain or retain benefits.

The Bureau of Indian Affairs solicits comments in order to:

(1) Evaluate whether the proposed collection of information is necessary for the proper performance of the functions of the bureau, including whether the information will have practical utility;

(2) Evaluate the bureau's estimate of the burden of the proposed collection of information, including the validity of the methodology and assumptions used;

(3) Enhance the quality, utility, and clarity of the information to be collected; and

(4) Minimize the burden of the collection of information on those who are to respond. Any public comments will be addressed in the Bureau of Indian Affairs' submission of the information collection request to the Office of Management and Budget.

Dated: August 21, 2000.
Kevin Gover,
Assistant Secretary—Indian Affairs.

[FR Doc. 00-21861 Filed 8-25-00; 8:45 am]

BILLING CODE 4310-02-P